DEPARTMENT OF COMMERCE

National Oceanic and Atmospheric Administration

RIN 0648-XR39

Endangered and Threatened Species; Recovery Plans; Correction

AGENCY: National Marine Fisheries Service (NMFS), National Oceanic and Atmospheric Administration (NOAA), Commerce.

ACTION: Extension of public comment period; correction.

SUMMARY: On November 24, 2009, we, NMFS, announced an extension of the public comment period for the Draft Central Valley Salmon and Steelhead Recovery Plan (Draft Plan). The Draft Plan addresses the Sacramento River winter-run Chinook salmon (Oncorhynchus tshawytscha) Evolutionarily Significant Unit (ESU), the Central Valley spring-run Chinook salmon (O. tshawytscha) ESU, and the Distinct Population Segment (DPS) of Central Valley Steelhead (Oncorhynchus mykiss). In response to requests for an extension of the public comment period, we extended the comment period for the proposed action an additional 60 days, but the new comment due date and zip code for written comments were incorrect. The correct end date for submission of comments is February 3, 2010, and correct zip code for written comments is 95814.

FOR FURTHER INFORMATION CONTACT: Howard Brown, NMFS Sacramento River Basin Branch Chief at (916) 930-3608 or Brian Ellrott at (916) 930-3612.

SUPPLEMENTARY INFORMATION:

Background

On November 24, 2009, we, NMFS, announced an extension of the public comment period for the Draft Central Valley Salmon and Steelhead Recovery Plan (Draft Plan) (74 FR 61329). NMFS inadvertently published February 3, 2009 for the comment period end date, and the correct end date should read, in all instances, February 3, 2010. NMFS also inadvertently published an incorrect mailing address zip code, and the correct zip code is 95814. The Draft Plan addresses the Sacramento River winter-run Chinook salmon (Oncorhynchus tshawytscha) Evolutionarily Significant Unit (ESU), the Central Valley spring-run Chinook salmon (O. tshawytscha) ESU, and the Distinct Population Segment (DPS) of Central Valley Steelhead (Oncorhynchus mykiss). In response to requests for an extension of the public comment period, we extended the comment period for the proposed action an additional 60 days, but the new comment due date and zip code for written comments were incorrect. On page 61329, third column, under DATES, and on page 61330, first column under SUPPLEMENTARY INFORMATION, the correct date that comments should be received by is February 3, 2010. Also on page 61329, third column under ADDRESSES, the correct zip code is 95814.

Authority: 16 U.S.C. 1531 et seq.

Dated: December 7, 2009.
Angela Somma,
Chief, Endangered Species Division, Office of Protected Resources, National Marine Fisheries Service.

[FR Doc. E9-29477 Filed 12-9-09; 8:45 am]

BILLING CODE 3510-22-S